DEPARTMENT OF EDUCATION

[Docket ID ED-2017-IES-0095]

Privacy Act of 1974; System of Records

AGENCY: Institute of Education Sciences, Department of Education.

ACTION: Notice of a new system of records.

SUMMARY: In accordance with the Privacy Act of 1974, as amended (Privacy Act), the Department of Education (the Department) publishes this notice of a new system of records entitled “Impact Evaluation of Parent Messaging Strategies on Student Attendance (18-13-42).” This system contains individually identifying information voluntarily provided by individuals and districts who participate in the impact study. The information contained in the records maintained in this system will be used to conduct a rigorous study of the effectiveness of a low-cost, parent-focused text messaging intervention, meant to reduce elementary school absenteeism and ultimately improve student achievement.

DATES: Submit your comments on this new system of records notice on or before May 14, 2018.

This new system of records will become applicable upon publication in the Federal Register on April 12, 2018, unless the new system of records notice needs to be changed as a result of public comment. The routine uses listed under “ROUTINE USES OF RECORDS MAINTAINED IN THE SYSTEM, INCLUDING CATEGORIES OF USERS AND PURPOSES OF SUCH USES” will become applicable on May 14, 2018, unless the new system of records notice needs to be changed as a result of public comment.

The Department will publish any significant changes to the system of records or routine uses that result from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Project's contracting officer representative (COR), Institute of Education Sciences, U.S. Department of Education, Potomac Center Plaza, Room 4102, 550 12th Street SW, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Meredith Bachman, Project's COR, Institute of Education Sciences, U.S. Department of Education, Potomac Center Plaza, Room 4102, 550 12th Street SW, Washington, DC 20202, by telephone at 1-202-245-7494, or by email at IES_SORN@ed.gov.

If you use a telecommunications device for the deaf (TDD) or a text telephone (TTY), you may call the Federal Relay Service, at 1-800-877-8339.

SUPPLEMENTARY INFORMATION:

Introduction: The information contained in the records maintained in this system will be used to conduct a rigorous study of the effectiveness of a low-cost, parent-focused text messaging intervention, meant to reduce elementary school absenteeism and ultimately improve student achievement.

The study will address the following central research questions: (1) What is the impact on student attendance of using text messaging to provide parents with basic information related to attendance? (2) For parents who do not respond to the messaging strategies that provide basic information, does a more intensive strategy work better to improve attendance? (3) Do adaptive interventions (i.e., interventions that use more or less intensive strategies based on how parents respond) have effects on end-of-year attendance and achievement when compared to the districts' usual attendance related practices? (4) How is the messaging intervention implemented and what are its costs?

Accessible Format: Individuals with disabilities can obtain this document in an accessible format (e.g., Braille, large print, audiotape, or compact disc) on request to the person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 9, 2018.
Thomas Brock,
Commissioner, National Center for Education Research, Delegated the Duties of the Director of the Institute of Education Sciences.

SYSTEM NAME AND NUMBER

Impact Evaluation of Parent Messaging Strategies on Student Attendance (18-13-42).

SECURITY CLASSIFICATION:

Unclassified.

SYSTEM LOCATION:

Evaluation Division, National Center for Education Evaluation and Regional Assistance, Institute of Education Sciences (IES), U.S. Department of Education (the Department), Potomac Center Plaza, 550 12th Street SW, Washington, DC 20202.

SYSTEM MANAGER:

Project's COR, Institute of Education Sciences, U.S. Department of Education, Potomac Center Plaza, Room 4102, 550 12th Street SW, Washington, DC 20202.

AUTHORITY FOR MAINTENANCE OF THE SYSTEM:

The study is authorized under ssections 171(b) and 173 of the Education Sciences Reform Act of 2002 (ESRA) (20 U.S.C. 9561(b) and 9563) and section 8601 of the Elementary and Secondary Education Act of 1965, as amended by the Every Student Succeeds Act (20 U.S.C. 7981) and the Consolidated and Further Continuing Appropriations Act, 2015 (Pub. L. 113-235).

PURPOSE(S) OF THE SYSTEM:

The information contained in the records maintained in this system will be used to conduct a rigorous study of a low-cost, parent-focused text messaging intervention, meant to reduce elementary school absenteeism and ultimately improve student achievement.

The study will address the following central research questions: (1) What is the impact on student attendance of using text messaging to provide parents with basic information related to attendance? (2) For parents who do not respond to the messaging strategies that provide basic information, does a more intensive strategy work better to improve attendance? (3) Do adaptive interventions (i.e., interventions that use more or less intensive strategies based on how parents respond) have effects on end-of-year attendance and achievement when compared to the districts' usual attendance related practices? (4) How is the messaging intervention implemented and what are its costs?

CATEGORIES OF INDIVIDUALS COVERED BY THE SYSTEM:

The system of records will include individually identifying information about parents (or guardians) who consent to participate in the study and their elementary school aged children. The system will contain records on approximately 26,000 parents and 30,000 students from 4 school districts.

CATEGORIES OF RECORDS IN THE SYSTEM:

For parents or guardians this information will include, but will not necessarily be limited to, contact information (name, phone number, and home address), gender, educational background, employment status, and primary language spoken at home. For students this information will include, but will not necessarily be limited to, name, district-provided student ID, date of birth, gender, race/ethnicity, grade, eligibility for free/reduced-price lunches, English Learner status, individualized education plan status, number of days absent (excused, unexcused, and suspended), and math and reading assessment scores. Parents' or guardians' contact information will be used to send out the text messages. Students' identifying information will be collected to extract attendance and academic assessment information from school district data sources.

RECORD SOURCE CATEGORIES:

The information contained in the records maintained in this system will be used to conduct a rigorous study of a low-cost, parent-focused text messaging intervention, meant to reduce elementary school absenteeism and ultimately improve student achievement. Data will be obtained on all participating students and their parents or guardians through administrative records maintained by the school districts and through the administration of a survey to a subset of approximately 2,000 parents or guardians.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collection, reporting, and publication of data by the Institute of Education Sciences. Any disclosure of personally identifiable information from student education records that were obtained from school districts must also comply with the requirements of the Family Educational Rights and Privacy Act (FERPA) (20 U.S.C. 1232g; 34 CFR part 99), which protects the privacy of student education records.

(1) Contract Disclosure. If the Department contracts with an entity for the purposes of performing any function that requires disclosure of records in this system to employees of the contractor, the Department may disclose the records to those employees. As part of such a contract, the Department will require the contractor to agree to maintain safeguards to protect the security and confidentiality of the records disclosed from the system.

(2) Research Disclosure. The Director of the Institute of Education Sciences may disclose information from this system of records to qualified researchers solely for the purpose of carrying out specific research that is compatible with the purpose(s) of this system of records. The researcher must agree to maintain safeguards to protect the security and confidentiality, consistent with section 183(c) of the ESRA (20 U.S.C. 9573(c)) of the records disclosed from the system. When personally identifiable information from a student's education record will be disclosed to the researcher, under FERPA (20 U.S.C. 1232g(b)), the researcher also must agree to comply with the requirements in the applicable FERPA exception to consent.

POLICIES AND PRACTICES FOR STORAGE OF RECORDS:

Records in this system of records are maintained in a secure, password-protected electronic system.

POLICIES AND PRACTICES FOR RETRIEVAL OF RECORDS:

Records in this system will be indexed and retrieved by a unique number assigned to each individual that will be cross-referenced by the individual's name on a separate list.

POLICIES AND PRACTICES FOR RETENTION AND DISPOSAL OF RECORDS:

The Department shall submit a retention and disposition schedule that covers the records contained in this system to the National Archives and Records Administration (NARA) for review. The records will not be destroyed until such time as NARA approves said schedule.

ADMINISTRATIVE, TECHNICAL, AND PHYSICAL SAFEGUARDS:

Security protocols for this system of records meet all required security standards issued by the National Institute of Standards and Technology (NIST). The secure, password protected electronic system utilizes security hardware and software to include multiple firewalls, active intruder detection, and role-based access controls. All physical access to the Department's site, where this system of records will be maintained, is controlled and monitored by security personnel. The computer system employed by the Department offers a high degree of resistance to tampering and circumvention. This security system limits data access to Department and contract staff on a need-to-know basis and controls individual users' ability to access and alter records within the system.

RECORD ACCESS PROCEDURES:

If you wish to request access to your records, you must contact the system manager at the address listed above. Your requests must provide necessary particulars of your full name, address, telephone number, and any other identifying information requested by the Department while processing the request, to distinguish between individuals with the same name. Your request must meet the requirements of regulations in 34 CFR 5b.5, including proof of identity.

CONTESTING RECORD PROCEDURES:

If you wish to contest the content of a record regarding you in the system of records, contact the system manager at the address listed above. Your request must meet the requirements of the regulations in 34 CFR 5b.7.

NOTIFICATION PROCEDURES:

If you wish to inquire whether a record exists regarding you in this system, you must contact the system manager at the address listed above. You must provide necessary particulars of your full name, address, telephone number, and any other identifying information requested by the Department while processing the request, to distinguish between individuals with the same name. Your request must meet the requirements of the Department's Privacy Act regulations at 34 CFR 5b.5, including proof of identity.

EXEMPTIONS PROMULGATED FOR THE SYSTEM:

None.

HISTORY:

None.

[FR Doc. 2018-07641 Filed 4-11-18; 8:45 am]

BILLING CODE 4000-01-P